FEDERAL COMMUNICATIONS COMMISSION

Information Collection Being Reviewed by the Federal Communications Commission Under Delegated Authority

AGENCY: Federal Communications Commission.

ACTION: Notice; request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before February 4, 2013. If you anticipate that you will be submitting PRA comments, but find it difficult to do so within the period of time allowed by this notice, you should advise the FCC contact listed below as soon as possible.

ADDRESSES: Submit your PRA comments to Nicholas A. Fraser, Office of Management and Budget, via fax at 202-395-5167 or via Internet at Nicholas_A._Fraser@omb.eop.gov and to Judith B.Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION: OMB Control Number: 3060-0286.

Title: Section 80.302, Notice of Discontinuance, Reduction or Impairment of Service Involving a Distress Watch.

Form Number: N/A.

Type of Review: Extension of a currently approved collection.

Respondents: Business or other for-profit entities, not-for-profit institutions and state, local or tribal government.

Number of Respondents: 160 respondents; 160 responses.

Estimated Time per Response: 1 hour.

Frequency of Response: On occasion reporting requirement.

Obligation to Respond: Required to obtain or retain benefits. Statutory authority for this information collection is contained in 47 U.S.C. sections 151—155, 301—609 of the Communications Act of 1934, as amended; and 3 UST 3450, 3 UST 4726 and 12 UST 2377.

Total Annual Burden: 160 hours.

Total Annual Cost: N/A.

Privacy Impact Assessment: N/A.

Nature and Extent of Confidentiality: There is no need for confidentiality.

Needs and Uses: The Commission is submitting this expiring information collection to the Office of Management and Budget (OMB) for approval of an extension request (no change in the public reporting and/or third party disclosure requirements). There is no change in the Commission's previous burden estimates.

Section 80.302 of the Commission's rules states that when changes occur in the operation of a public coast station which include discontinuance, relocation, reduction or suspension of a watch required to be maintained on 2182 kHz or 156.800 MHz, notification must be may be the licensee to the nearest district office of the U.S. Coast Guard as soon as practicable. This notification must include the estimated or know resumption time of the watch.

OMB Control Number: 3060-0599.

Title: Sections 90.425 and 90.467, Station Identification.

Form Number: N/A.

Type of Review: Extension of a currently approved collection.

Respondents: Business or other for-profit entities and state, local or tribal government.

Number of Respondents: 209 respondents; 209 responses.

Estimated Time per Response: 1.66 hours (10 minutes).

Frequency of Response: On occasion reporting requirement.

Obligation to Respond: Required to obtain or retain benefits. Statutory authority for this information collection is contained in 47 U.S.C. sections 151(i), 309(j) and 332 as amended by the Communications Act of 1934, as amended.

Total Annual Burden: 347 hours.

Total Annual Cost: N/A.

Privacy Impact Assessment: N/A.

Nature and Extent of Confidentiality: There is no need for confidentiality.

Needs and Uses: The Commission is submitting this expiring information collection to the Office of Management and Budget (OMB) for approval of an extension request (no change in the public reporting requirement). There is no change in the Commission's (2010) burden estimates.

Sections 90.425 and 90.647, Station Identification set forth station identification requirements under these rule sections. Section 90.425(e) states that 929-930 MHz nationwide paging licensees and MTA-based SMR licensees or MTA or Economic Area (EA)-based SMR licensees are exempt from meeting these identification requirements as opposed to all other Commercial Mobile Radio Service (CMRS). Further the remaining CMRS providers need comply only once with the streamlined station identification requirements which amend requirements from once every 15 minutes to once an hour.

Federal Communications Commission.
Marlene H. Dortch,
Secretary, Office of the Secretary, Office of Managing Director.

[FR Doc. 2012-29344 Filed 12-4-12; 8:45 am]

BILLING CODE 6712-01-P